DEPARTMENT OF TRANSPORTATION

Federal Aviation Administration

Tenth Meeting: RTCA Special Committee 228 (SC-228) Minimum Operational Performance Standards for Unmanned Aircraft Systems

AGENCY: Federal Aviation Administration (FAA), U.S. Department of Transportation (DOT).

ACTION: Notice of Tenth RTCA Special Committee 228 meeting.

SUMMARY: The FAA is issuing this notice to advise the public of the Tenth RTCA Special Committee 228 meeting.

DATES: The meeting will be held July 14-15, 2016 from 9:00 a.m.-4:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org or Alfred Secen, Program Director, RTCA, Inc., asecen@rtca.org, (202) 330-0647.

SUPPLEMENTARY INFORMATION: Pursuant to section 10(a)(2) of the Federal Advisory Committee Act (Pub. L. 92-463, 5 U.S.C., App.), notice is hereby given for a meeting of RTCA Special Committee 228. The agenda will include the following:

Thursday-Friday, July 14-15, 2016

1. Welcome/Introductions/Administrative Remarks/SC-228 Participation Guidelines.

a. Reading of the Public Announcement by the DFO.

b. Reading of the RTCA Proprietary References Policy.

2. Agenda Overview.

3. Review/Approval of Minutes from Plenary #9.

4. EUROCAE WG-73 Update.

5. Review of RTCA Steering Committee Activity.

6. Report from WG-1 for DAA progress on the DAA MOPS.

7. Report from WG-2, C2.

8. Action Item Review.

9. Other Business.

10. Date, Place and Time of Next Meeting(s).

11. Adjourn Plenary.

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on June 13, 2016.
Latasha Robinson,
Management & Program Analyst, NextGen, Enterprise Support Services Division, Federal Aviation Administration.

[FR Doc. 2016-14269 Filed 6-15-16; 8:45 am]

BILLING CODE 4910-13-P